DEPARTMENT OF TRANSPORTATION

Federal Transit Administration

Intent to Prepare an Environmental Impact Statement for Major Transit Improvements in the University Corridor of Metropolitan Houston, TX

AGENCY: Federal Transit Administration (FTA), Department of Transportation (DOT).

ACTION: Notice of Intent to prepare an Environmental Impact Statement.

SUMMARY: The Federal Transit Administration (FTA) and the Metropolitan Transit Authority of Harris County (METRO) intend to prepare an Environmental Impact Statement (EIS), in accordance with the National Environmental Policy Act (NEPA), to evaluate proposed public transportation improvements in the Houston metropolitan area. The area being studied, known as the University Corridor, extends approximately ten miles from the vicinity of the University of Houston—Central Campus to the Uptown/Galleria area in southwest Houston. METRO is proposing to construct an electric-powered light rail transit line on one of several possible alignments in the corridor. The EIS will examine and evaluate a number of transit alternatives including a Transportation Systems Management Alternative and various Build Alternatives, consisting of light rail vehicles powered from overhead wires, by an internal diesel-electric system, or by an alternative fuel hybrid-electric system and alignment options within the corridor; and any additional alternatives generated by the scoping process. The location and design of needed ancillary facilities, such as maintenance facilities, will also be considered. Scoping of the EIS will be accomplished through a series of public meetings and stakeholder meetings, through correspondence with interested persons, organizations, and Federal, State, and local agencies, and through posting a scoping information packet on the internet and distributing the packet in hardcopy upon request.

DATES: Comment Due Date: Written comments on the scope of the EIS, including the purpose and need for transit improvements in the corridor, the alternatives to be studied, and the environmental and community impacts to be considered should be sent to the Metropolitan Transit Authority of Harris County at the address under ADDRESSES below no later than July 14, 2006.

Scoping Meeting Dates: Public scoping meetings to discuss the scope of the EIS will be held on June 27, 2006 and June 29, 2006. See ADDRESSES below for meeting times and locations. Formal presentations of the proposed scope of the study will be made at the meetings, and will be followed by an opportunity for the public to comment on the purpose and need, alternatives to be evaluated, and environmental and community impact issues to be assessed. METRO staff will be available for informal questions and comments throughout the meeting. Scoping information material will be available at the meetings and may also be obtained in advance of the meeting by contacting METRO at the address or e-mail identified in ADDRESSES below. The scoping information will also be available on the project Web site at http://www.metrosolutions.org/go/doc/1068/112145/. Oral or written comments may be given at the scoping meetings. A court reporter will be present at the meetings to record oral comments. Any person who requires language interpretation or communication accommodations is encouraged to contact Karen Marshall at METRO at (713) 739-4980 or by 2-mail at METROSolutions-University@ridemetro.org at least 72 hours prior to the scoping meetings. Every reasonable effort will be made to meet special needs. The location for the meetings will be accessible to persons with disabilities. A scoping meeting for the public agencies invited to serve as participating agencies in the EIS study will be organized later through direct mailouts or telephone invitations.

ADDRESSES: Written comments on the scope of the EIS should be sent to the following address by July 14, 2006: Rhonda Boyer, 1900 Main St., P.O. Box 61429, Houston, Texas 77208-1429, METROSolutions-University@ridemetro.org.

The public scoping meetings will be held at the following locations and times:

1. Third Ward Multi-Service Center, Tuesday, June 27, 2006, 4 p.m. to 7 p.m. at 3611 Ennis, Houston, Texas 77004.

2. San Jacinto Girl Scout Headquarters, Thursday June 29, 2006, 4 p.m. to 7 p.m. at 3110 S.W. Freeway, Houston, Texas 77098.

FOR FURTHER INFORMATION CONTACT: John Sweek, Community Planner, FTA, Region VI, 819 Taylor Street, Ft. Worth, Texas 76102, Telephone (817) 978-0550.

SUPPLEMENTARY INFORMATION:

I. Scoping

METRO and FTA invite all interested individuals and organizations, and Federal, State, regional, and local agencies to participate in defining the purpose and need for transit action in the University Corridor, in developing alternatives to be evaluated to meet that purpose and need, and in identifying any social, economic and environmental issues related to the alternatives. During the scoping process, comments should focus on refining the purpose and need statement, developing alternatives to meet the purpose and need that have comparable or lower cost and less adverse impact, and identifying specific social, economic, or environmental impacts to be evaluated.

II. Purpose and Need

The University Corridor study area is defined as beginning at the University of Houston—Central Campus and extending westward to the inner southwest part of Houston, generally bounded by Calhoun Street on the east, Chimney Rock on the west, Westheimer on the north and Bissonnet on the south. The University Corridor extends approximately 10 miles east to west and includes the Greenway Plaza, the Uptown/Galleria, the University of Houston—Central Campus, the Texas Southern University, and the St. Thomas University areas. Portions of the alignment are densely developed. New development and redevelopment is occurring along the corridor and is expected to generate increases in travel demand.

A key component of the University Corridor is the regional connectivity the transit line will offer. A number of travel destinations are located along the corridor. The alignment will provide a transfer opportunity at the Wheeler Station providing a direct connection to the existing Main Street LRT line, which provides service to Downtown, Midtown, the Museum District and the Texas Medical Center. A transfer opportunity to the proposed Southeast Corridor BRT project will also be provided at Scott Street.

From Calhoun Street to Chimney Rock, the corridor is characterized by fairly dense residential and commercial development. Two major employment centers, Uptown/Galleria and Greenway Plaza, will be directly serviced by the University line, and Downtown and the Texas Medical Center may be reached by a light rail connection at the Wheeler station. The corridor will also provide direct service to four major universities: University of Houston—Central Campus, Texas Southern University, Houston Community College—Central Campus, and St. Thomas University. Current local bus routes that operate in the University Corridor study area tend to be heavily utilized, and represent a significant share of the daily local bus ridership.

Transit connection of major population, employment, and entertainment centers, including Downtown Houston, Uptown/Galleria, and Greenway Plaza, is a key purpose of this proposal. FTA and METRO seek public and agency comment on the purpose and need for transit action in the University Corridor.

III. Alternatives

The alternatives presently proposed for consideration in the EIS are:

• Future No Build Alternative—Outside the study area, this alternative consists of the transportation network in the metropolitan transportation plan adopted by the Houston-Galveston Area Council (H-GAC). Inside the study area, this alternative assumes that transit service will be continued and expanded to meet future population and employment growth in accordance with existing service policies.

• TSM Alternative: Bus service improvements beyond those of the Future No Build Alternative, which represent the best that can be done to meet the project's purpose and need without constructing a new transit guideway.

• LRT on Westpark and US 59: Rail vehicles and tracks on Westpark and US 59 with one of three alignments for transitioning west of Spur 527 in the vicinity of Edloe, Weslayan, or the Bellaire Juncture Railroad right-of-way and with one of three alignments for transitioning east of Spur 527 on Elgin, Alabama, or Wheeler. The impacts and costs alternative traction-power technologies for the light rail vehicles, including electric power from overhead wires, an on-vehicle diesel-electric system, and an alternative fuel hybrid-electric system, will be studied. A hybrid-powered LRT system has not yet been used elsewhere in the United States.

• LRT on Richmond: Rail vehicles and tracks on Richmond with one of three alignments for transitioning west of Spur 527 in the vicinity of Edloe, Weslayan, or the Bellaire Juncture Railroad right-of-way and with one of three alignments for transitioning east of Spur 527 on Elgin, Alabama, or Wheeler. As with the Westpark/US 59 LRT alignment, alternative traction-power LRT technologies will be studied.

Additional reasonable alternatives suggested during the scoping process, including those involving other modes or alignments, will also be considered. Alternative locations and designs for ancillary facilities, such as the transit vehicle storage and maintenance facility, traction power substations for electrically-powered vehicles, and stormwater management facilities, will be developed and presented in the EIS.

IV. Probable Effects and Potential Impacts for Analysis

The purpose of the EIS is to evaluate the environmental consequences of alternative means of accomplishing the purpose and need for transit in the University Corridor study area in advance of a decision to commit substantial financial or other resources toward the project implementation. The EIS will examine the extent to which the study alternatives result in adverse environmental and community impacts and corresponding actions to reduce, mitigate, or eliminate such impacts.

METRO and the FTA will evaluate all social, economic, and environmental impacts of the alternatives analyzed in the EIS. Primary issues known to the study team at present include:

• Land acquisition, displacement and relocation of existing residences and businesses;

• Historic, archaeological, and cultural resources;

• Parklands and recreation areas;

• Adverse impacts on neighborhoods and communities;

• Transit vehicle noise;

• Vibration of buildings due to rail vehicles; and

• Traffic impacts.

Mitigation options for all adverse impacts will be developed and presented in the EIS. To ensure that all significant issues related to this proposed project are identified and addressed, comments and suggestions are encouraged from all interested parties during scoping. Comments or questions concerning the impacts of the various alternatives should be directed to METRO at the address given under ADDRESSES above.

V. FTA Procedures

FTA and METRO will combine the draft EIS with the planning Alternatives Analysis required for New Starts projects (projects proposed for funding assistance through 49 U.S.C. 5309(d)). Following the public hearing and comment period for the draft EIS, METRO and H-GAC will select a locally preferred alternative (LPA), and METRO will apply to FTA for entry into the Preliminary Engineering (PE) phase of project development. It is conceivable that the LPA may be combination of one or more alternative options studied. Wherever the LPA has adverse impacts, METRO and FTA will develop additional alignment and design alternatives during PE to avoid those adverse effects. If avoidance is determined not to be feasible and prudent, then minimization and mitigation options will be developed and evaluated. The final EIS will present the alternatives developed and evaluated during PE and commit to specific mitigation of adverse impacts.

In accordance with FTA policy, all Federal laws, regulations and executive orders affecting project development, including but not limited to the regulations of the Council on Environmental Quality and FTA implementing NEPA (40 CFR parts 1500-1508 and 23 CFR part 771), the project-level conformity provisions of the Clean Air Act, Section 404 of the Clean Water Act, Executive Orders 11990 regarding wetlands, 11988 regarding floodplains, and 12898 regarding environmental justice, Section 106 of the National Historic Preservation Act, Section 7 of the Endangered Species Act, and Section 4(f) of the Department of Transportation Act (49 U.S.C. 303), will be addressed to the maximum extent practicable during the NEPA process.

Issued on: May 17, 2006.
Robert C. Patrick,
Regional Administrator, Federal Transit Administration, Fort Worth, Texas.

[FR Doc. 06-4730 Filed 5-19-06; 8:45 am]

BILLING CODE 4910-57-M